DEPARTMENT OF THE INTERIOR

National Park Service

Notice of Inventory Completion: Texas Archeological Research Laboratory, The University of Texas at Austin, Austin, TX

AGENCY: National Park Service, Interior.

ACTION: Notice.

Notice is here given in accordance with the Native American Graves Protection and Repatriation Act (NAGPRA), 25 U.S.C. 3003, of the completion of an inventory of human remains and associated funerary objects in the possession of the Texas Archeological Research Laboratory, The University of Texas at Austin, Austin, TX. The human remains were removed from a site in San Jacinto County, TX.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by Texas Archeological Research Laboratory professional staff in consultation with representatives of the Alabama-Coushatta Tribes of Texas. No other tribes were consulted.

In 1968 and 1969, human remains representing a minimum of four individuals were removed from the Arthur Patterson site, San Jacinto County, TX, during excavations by the Texas State Building Commission, the Texas Water Development Board, the Houston Archeological Society and students from Coldsprings High School. The human remains were acquired by the Texas Archeological Research Laboratory at an undocumented date. No known individuals were identified. The 93 associated funerary objects are 34 lots of beads, 2 ceramic cups, 2 ceramic saucers, 1 ceramic plate, 1 lot of glass bottle fragments, 1 glass goblet, 2 glass tumblers, 3 hawk bell fragments, 5 iron fragments, 1 lot of iron nail fragments, 1 lot of iron scissors fragments, 4 pieces of petrified wood, 7 sherds, 8 silver conchos, 6 white glass buttons, 1 metal bucket, 1 wood fragment, 5 pieces of quartzite, 1 bone-handled knife, 1 domesticated pig canine, 1 lot of feathers, 1 glass medicine bottle, 2 fragmented rings, 1 lot of sherds and flakes, and 1 lot of glass beads.

The Arthur Patterson site is a Native American cemetery that appears to have been in use from the 1840s to the 1870s based on the artifacts found with the human remains. The Alabama and Coushatta Indians were the only groups known historically in the area during that period. The nature of the site from which the human remains were obtained, the mode of interment, and the kinds of associated funerary objects are consistent with the practices of the Alabama-Coushatta Tribes of Texas.

Officials of the Texas Archeological Research Laboratory have determined that, pursuant to 25 U.S.C. 3001 (9-10), the human remains described above represent the physical remains of four individuals of Native American ancestry. Officials of the Texas Archeological Research Laboratory also have determined that, pursuant to 25 U.S.C. 3001 (3)(A), the 93 objects described above are reasonably believed to have been placed with or near individual human remains at the time of death or later as part of the death rite or ceremony. Lastly, officials of the Texas Archeological Research Laboratory have determined that, pursuant to 25 U.S.C. 3001 (2), there is a relationship of shared group identity that can be reasonably traced between the Native American human remains and associated funerary objects and the Alabama-Coushatta Tribes of Texas.

Representatives of any other Indian tribe that believes itself to be culturally affiliated with the human remains and associated funerary objects should contact Dr. Darrell Creel, Director, The University of Texas at Austin, Texas Archeological Research Laboratory, 1 University Station R7500, Austin, TX 78712-0714, telephone (512) 471-5960, before December 23, 2004. Repatriation of the human remains and associated funerary objects to the Alabama-Coushatta Tribes of Texas may proceed after that date if no additional claimants come forward.

The Texas Archeological Research Laboratory is responsible for notifying the Alabama-Coushatta Tribes of Texas that this notice has been published.

Dated: October 25, 2004
Sherry Hutt,
Manager, National NAGPRA Program.

[FR Doc. 04-25928 Filed 11-22-04; 8:45 am]

BILLING CODE 4312-50-S